DEPARTMENT OF LABOR

Employment and Training Administration

Agency Information Collection Activities; Comment Request; Required Elements for Submission of the Unified or Combined State Plan and Plan Modifications Under the Workforce Innovation and Opportunity Act

ACTION: Notice.

SUMMARY: The Department of Labor's (DOL's), Employment and Training Administration (ETA) is soliciting comments concerning a proposed extension for the authority to conduct the information collection request (ICR) titled, “Required Elements for Submission of the Unified or Combined State Plan and Plan Modifications under the Workforce Innovation and Opportunity Act.” This comment request is part of continuing Departmental efforts to reduce paperwork and respondent burden in accordance with the Paperwork Reduction Act of 1995 (PRA).

DATES: Consideration will be given to all written comments received by March 4, 2019.

ADDRESSES: A copy of this ICR with applicable supporting documentation; including a description of the likely respondents, proposed frequency of response, and estimated total burden may be obtained free by contacting Sean Fox by telephone at 202-693-2946, TTY 1-877-889-5627 (these are not toll-free numbers), or by email at fox.sean@dol.gov. Submit written comments about, or requests for a copy of, this ICR by mail or courier to the U.S. Department of Labor, Employment and Training Administration, Office of Workforce Investment, 200 Constitution Ave. NW, Washington, DC 20210; by email: WIOA.PLAN@dol.gov or by Fax at 202-693-3817.

FOR FURTHER INFORMATION CONTACT: Sean Fox by telephone 202.693.2946 (this is not a toll-free number) or by email at fox.sean@dol.gov.

SUPPLEMENTARY INFORMATION: DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This ICR collects the required information for the submission of WIOA State Plans and Modifications. The information covered includes the State's strategic focus for its public workforce system and then several key items for operationalizing the strategic goals. Information in the WIOA State Plan includes an overview of the State's governance structure, resources, programs, career pathways, and sector strategy initiatives. The ICR also includes assurances that the WIOA program in the State is compliant with statutory and regulatory requirements.

In February 2016, OMB approved the Information Collection Request (ICR), OMB control number 1205-0522, that allows the Department of Labor and Department of Education (the Departments) to collect State Plans required by the Workforce Innovation and Opportunity Act (WIOA). OMB granted approval for the ICR through September of 2019. U.S.C. 3101 (The Workforce Innovation and Opportunity Act) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0522.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Type of Review: Extension without Changes.

Title of Collection: Required Elements for Submission of the Unified or Combined State Plan and Plan Modifications under the Workforce Innovation and Opportunity Act.

Form: None.

OMB Control Number: 1205-0522.

Affected Public: State and local workforce development board members, chief local elected officials, job-seekers, and employers.

Estimated Number of Respondents: 38. For the last version of this ICR, we listed 38 respondents. In this extension request, we retain the calculation for 38 respondents.

Frequency: Every 2 years (an initial Plan and 2-year modification as needed).

Total Estimated Annual Responses: 38.

Estimated Average Time per Response: 214 hours.

Estimated Total Annual Burden Hours: 8,136 hours.

Total Estimated Annual Other Cost Burden: $388,819.

Authority: 44 U.S.C. 3506(c)(2)(A).

Molly E. Conway,
Acting Assistant Secretary.

[FR Doc. 2018-28358 Filed 12-31-18; 8:45 am]

BILLING CODE 4510-30-P